DEPARTMENT OF THE INTERIOR

National Park Service

Cape Cod National Seashore, South Wellfleet, MA; Cape Cod National Seashore Advisory Commission Two Hundred Fortieth Meeting; Notice of Meeting

Notice is hereby given in accordance with the Federal Advisory Committee Act (Pub. L. 92-463, 86 Stat. 770, 5 U.S.C. App 1, section 10), that a meeting of the Cape Cod National Seashore Advisory Commission will be held on Friday, January 24, 2003.

The Commission was reestablished pursuant to Pub. L. 87-126 as amended by Pub. L. 105-280. The purpose of the Commission is to consult with the Secretary of the Interior, or his designee, with respect to matters relating to the development of Cape Cod National Seashore, and with respect to carrying out the provisions of sections 4 and 5 of the Act establishing the Seashore.

The Commission members will meet at 1 p.m. at Headquarters, Marconi Station, Wellfleet, Massachusetts for the regular business meeting to discuss the following:

1. Adoption of Agenda

2. Approval of minutes of previous meeting (November 22, 2002)

3. Reports of Officers

4. Reports of Subcommittees

Dune Shack Subcommittee

Nickerson Fellowship Subcommittee

5. Superintendent's Report

Marconi Event

Salt Pond Visitor Center

News from Washington

6. Old Business

Invasive Species

7. New Business

Water Supply Issues

8. Date and agenda for next meeting

9. Public comment and

10. Adjournment

The meeting is open to the public. It is expected that 15 persons will be able to attend the meeting in addition to Commission members.

Due to a delay in this notice being delivered to National Park Service staff during the holiday season, the notice could not be published at least 15 days prior to the meeting dates. The National Park Service regrets this error, but is compelled to hold the meeting as scheduled because of the significant sacrifice re-scheduling would require of committee members who have adjusted their schedules to accommodate the proposed meeting dates, and the high level of anticipation by all parties who will be affected by the outcome of the committee's actions. Since the proposed meeting dates have received widespread publicity in area news media and among the parties most affected, the National Park Service believes that the public interest will not be adversely affected by the less-than-15 days advance notice in the Federal Register.

Interested persons may make oral/written presentations to the Commission during the business meeting or file written statements. Such requests should be made to the park superintendent at least seven days prior to the meeting. Further information concerning the meeting may be obtained from the Superintendent, Cape Cod National Seashore, 99 Marconi Site Road, Wellfleet, MA 02667.

Dated: January 8, 2003.
A. Durand Jones,
Deputy Director, National Park Service.

[FR Doc. 03-994 Filed 1-15-03; 8:45 am]

BILLING CODE 4310-70-P